DEPARTMENT OF HOUSING AND URBAN DEVELOPMENT

[Docket No. FR-4491-N-06]

Notice Draft Environmental Impact Statement; City of West Hollywood, CA; Section 108 Loan Guarantee/ Brownfield Economic Development Initiative Grant

AGENCY: Office of the Assistant Secretary for Community Planning and Development, HUD.

ACTION: Notice.

SUMMARY: Pursuant to the provisions of the National Environmental Policy Act of 1969, 40 CFR parts 1500-1508, and 24 CFR part 58, this announcement gives notice to the public that the Community Development Commission of the County of Los Angeles (Commission), in its capacity as a Responsible Entity, intends to prepare an Environmental Impact Statement (EIS) for the West Hollywood Gateway Project. The proposed project involves acquisition, clearance and development of a 7.75-acre site on the southwest corner of La Brea Avenue and Santa Monica Boulevard in the City of West Hollywood, California, with new multi-story office, retail, restaurant and entertainment uses, and above ground and subterranean parking. The City of West Hollywood has submitted an application to the Commission requesting $8,000,000 in Section 108 Loan Guarantee funds and $2,000,000 in Brownfield Economic Development Initiative funds, which will assist with land acquisition. Upon completion of the environmental clearance process, it is anticipated that the Commission will request the U.S. Department of Housing and Urban Development (HUD) to release Federal funds under Title I of the Housing and Community Development Act of 1974 (Pub. L. 93-383) for this project.

This notice is provided in accordance with regulations of the Council on Environmental Quality as described in 40 CFR parts 1500-1508. Federal agencies having jurisdiction by law, special expertise, or other special interest should report their interests and indicate their readiness to aid in the EIS efforts as a “Cooperating Agency.” In particular, information is solicited concerning reports or other environmental studies planned or completed in the project area; other projects to be undertaken within the project area or major issues which the EIS should consider; and recommended mitigation measures and alternatives associated with the proposed project.

A draft EIS will be completed for the proposed action described herein. Comments relating to preparation of the draft EIS are requested and will be accepted by the contact person listed below. When the draft EIS is completed, a notice will be sent to individuals and groups known to be interested in the proposed action. Any person or agency interested in receiving a notice and making comment on the draft EIS should contact the person listed below.

DATES: Comments pertaining to the proposed project should be received by the person and office named below, on or before May 25, 2001 in order for all comments to be considered in the preparation of the draft EIS.

ADDRESSES: All interested agencies, groups and persons are invited to submit written comments on the proposed project to: DeAnn Johnson, Environmental Officer, Community Development Commission of the County of Los Angeles, 2 Coral Circle Monterey Park, California 91755-7425, (323) 890-7186.

SUPPLEMENTARY INFORMATION:

A. Background

The West Hollywood Gateway Project is proposed to be developed in two phases. Phase I development will be constructed on a 4.82 acre parcel and under the preferred alternative, will include 337,232 gross square feet of retail, office, and restaurant uses, and a three-level, subterranean parking structure with 1,410 parking spaces. A “media wall” consisting of a steel frame and a 2,000 square-foot screen standing approximately 80 feet above the plaza for electronic media will also be constructed. Phase II development will be constructed on a 2.93 acre parcel currently owned by Southern California Gas Company, and will include approximately 70,000 gross square feet of sound stages/movie studio space. Approximately 164 parking spaces will be provided in a four-level above ground parking structure. Construction of Phase II will necessitate relocation of the existing Southern California Gas Company facilities currently located on the site.

Pursuant to the provisions of the California Environmental Quality Act (CEQA), a draft Environmental Impact Report (EIR) was prepared for this project by the City of West Hollywood. The Draft EIR was circulated for a 45-day public review and comment period commencing April 18, 2000 and closing June 1, 2000. A Final EIR was prepared and published in September 2000 addressing comments received during the review period. The EIR was certified as complete by the West Hollywood City Council on October 16, 2000. The EIR will be independently reviewed by the Commission, and may provide significant source documentation for the Commission's draft EIS.

Project Alternatives

The draft EIS will address the following project alternatives: (1) Preferred Alternative (407,232 gross square feet of office, retail, restaurant, and entertainment uses); (2) Original Proposal (418,015 gross square feet of office, retail, restaurant, and entertainment uses); (3) Reduced Density Alternative (320,715 gross square feet of office, retail, restaurant, and entertainment uses); (4) Reduced Intensity Alternative (365,115 gross square feet of office, retail, restaurant, and entertainment uses); and (5) No Project Alternative.

B. Need for the EIS

It has been determined that this request for release of funds may constitute an action significantly affecting the quality of the human environment in the areas of traffic, air quality, and historic resources. Therefore, an EIS will be prepared by the Commission in accordance with the National Environmental Policy Act of 1969 (Pub. L. 91-190). Responses to this notice will be used to:

1. Determine significant environmental issues;

2. Identify issues which the EIS should address; and

3. Identify agencies and other parties which will participate in the EIS process and the basis for their involvement.

The draft EIS will be published and distributed on or about June 1, 2001, and a copy will be available for public inspection at the Community Development Commission, 2 Coral Circle, Monterey Park, California 91755; at the West Hollywood City Hall, 8300 Santa Monica Boulevard, West Hollywood, California 90069; and at the West Hollywood County Library, 715 North San Vincente Boulevard, West Hollywood, California 90069. Copies of the draft EIS may be purchased upon request to DeAnn Johnson at (323) 890-7186, for a price sufficient to cover reproduction costs.

C. Scoping:

This notice is part of the process used for scoping the EIS. Responses will help determine the significant environmental issues, identify issues which the EIS should address, and help identify Cooperating Agencies.

This notice shall be in effect for one year. If one year after the publication of the notice in the Federal Register a draft EIS has not been published for the project, then the Notice for the project shall be canceled. If the draft EIS is expected to be published more than one year after the publication of this Notice, a new and updated Notice shall be published.

Dated: April 19, 2001.
Donna M. Abbenante,
Acting General Deputy Assistant Secretary for Community Planning and Development.

[FR Doc. 01-10254 Filed 4-24-01; 8:45 am]

BILLING CODE 4210-29-U